FEDERAL COMMUNICATIONS COMMISSION

47 CFR Part 54

[CC Docket Nos. 96-45, 96-262, 94-1, 91-213, 95-72; FCC 97-420]

Universal Service

AGENCY: Federal Communications Commission.

ACTION: Correcting amendments.

SUMMARY: This document contains a correction to the final regulation part 54, which was published in the Federal Register on Tuesday January 13, 1998, (63 FR 2094). This document will correct one word in section 54.303(b)(4) of the Commission rules. The regulation relates to the calculation of Long Term Support by the Administrator contained in section 54.303(b)(4).

DATES: Effective November 26, 2002.

FOR FURTHER INFORMATION CONTACT: Katie King, Attorney, Wireline Competition Bureau (formerly, Common Carrier Bureau), Telecommunications Access Policy Division, (202) 418-7400.

SUPPLEMENTARY INFORMATION:

Background

Part 54 rules are issued pursuant to the Communications Act of 1934, as amended. The purpose of the part 54 rules is to implement section 254 of the Communications Act of 1934, as amended, 47 U.S.C. 254. The final regulation that is subject to the correction deals with § 54.303 and how the Administrator calculates long term support.

Need for Correction

As published, the final regulation contains an error which needs to be corrected.

List of Subjects in 47 CFR Part 54

Reporting and recordkeeping requirements, Telecommunications, Telephone.

Accordingly, 47 CFR part 54 is corrected by making the following correcting amendments:

PART 54—UNIVERSAL SERVICE

1. The authority citation for part 54 continues to read as follows:

Authority: 47 U.S.C. 1, 4(i), 201, 205, 214, and 254 unless otherwise noted.

2. Revise paragraph (b)(4) of § 54.303 to read as follows:

§ 54.303 Long term support.

* * * * *

(b) * * *

(4) Beginning January 1, 2000, the Administrator shall calculate Long Term Support annually by adjusting the previous year's level of support to reflect the annual percentage change in the Department of Commerce's Gross Domestic Product-Chained Price Index (GDP-CPI).

* * * * *

Federal Communications Commission.
Marlene Dortch,
Secretary.

[FR Doc. 02-29967 Filed 11-25-02; 8:45 am]

BILLING CODE 6712-01-P